ELECTION ASSISTANCE COMMISSION

Technical Guidelines Development Committee (TGDC); Notice of Vacancy

AGENCY: U.S. Election Assistance Commission (EAC).

ACTION: Notice of vacancy.

SUMMARY: Pursuant to the U.S. Code and the Charter of the EAC Technical Guidelines Development Committee (TGDC), the EAC is posting this notice of vacancy. Any vacancy in the TGDC shall be filled in the manner in which the original appointment was made. The vacancy shall be filled jointly by the EAC and the Director of the National Institute of Standards and Technology (NIST).

ADDRESSES: Pursuant to the TGDC Charter, the EAC will post the notice of vacancy on the EAC website: https://www.eac.gov.

SUPPLEMENTARY INFORMATION:

TGDC Appointment Process

The Technical Guidelines Development Committee (TGDC) is a non-discretionary Federal Advisory Committee established by the Help America Vote Act of 2002 (HAVA), Public Law 107-252, 116 Stat. 1666 (2002). The TGDC assists the EAC in developing the Voluntary Voting System Guidelines (VVSG). The chairperson of the TGDC is the director of the National Institute of Standards and Technology (NIST). The TGDC is composed of 14 other members appointed jointly by EAC and the director of NIST.

HAVA mandates that the 14 other members appointed jointly by the EAC and NIST must include a representative of the Institute of Electrical and Electronics Engineers. The TGDC Charter requires that notice of vacancies on the Committee for those individuals jointly appointed by EAC and NIST will be published in the Federal Register as well as on the Commission's website. Pursuant to HAVA and the TGDC Charter, the EAC is publishing this notice of vacancy on the TGDC for a representative of the Institute of Electrical and Electronics Engineers. This vacancy shall be filled through a joint appointment by the EAC and NIST.

Authority: 52 U.S.C. 20961.

Camden Kelliher,
Senior Associate Counsel, U.S. Election Assistance Commission.

[FR Doc. 2023-14326 Filed 7-6-23; 8:45 am]

BILLING CODE 4810-71-P